DEPARTMENT OF COMMERCE

Foreign-Trade Zones Board

[Docket 18-2010]

Foreign-Trade Zone 196 -- Fort Worth, Texas, Application for Reorganization/Expansion under Alternative Site Framework

An application has been submitted to the Foreign-Trade Zones (FTZ) Board (the Board) by the Alliance Corridor, Inc., grantee of FTZ 196, requesting authority to reorganize the zone under the alternative site framework (ASF) adopted by the Board (74 FR 1170, 1/12/09; correction 74 FR 3987, 1/22/09). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on March 16, 2010.

FTZ 196 was approved by the Board on August 31, 1993 (Board Order 651, 58 FR 48826, 9/20/93). The current zone project includes the following sites: Site 1 (4,470 acres) -- Alliance Center, located at the Alliance Airport on Interstate 35W in the Cities of Fort Worth and Haslet; Site 2 (1,900 acres) -- Alliance Gateway, located along State Highway 170 between Interstate 35W and State Highway 114, Fort Worth and Roanoke; Site 3 (1,600 acres) -- located at Interstate 35W and State Highway 114 in Northlake; and, Site 4 (1,600 acres) -- Hunter Ranch, located on Interstate 35W in Denton.

The grantee's proposed service area under the ASF would be the Alliance Corridor area located within Denton and Tarrant Counties, Texas (as detailed in the application). If approved, the grantee would be able to serve sites throughout the service area based on companies' needs for FTZ designation. The proposed service area is adjacent to the Alliance Customs and Border Protection user fee airport.

The applicant is requesting to include its current sites in the reorganized zone as “magnet'' sites. The applicant proposes that Site 1 be exempt from “sunset” time limits that would otherwise apply to sites under the ASF. The applicant is also requesting approval of a “usage-driven” site in Denton County: Proposed Site 5 (39 acres) -- Lego Systems, Inc., 300 Freedom Drive, Roanoke (located within Alliance Gateway 60).

In accordance with the Board's regulations, Camille Evans of the FTZ Staff is designated examiner to evaluate and analyze the facts and information presented in the application and case record and to report findings and recommendations to the Board.

Public comment is invited from interested parties. Submissions (original and 3 copies) shall be addressed to the Board's Executive Secretary at the address below. The closing period for their receipt is May 24, 2010. Rebuttal comments in response to material submitted during the foregoing period may be submitted during the subsequent 15-day period to June 7, 2010.

A copy of the application will be available for public inspection at the Office of the Executive Secretary, Foreign-Trade Zones Board, Room 2111, U.S. Department of Commerce, 1401 Constitution Avenue NW, Washington, DC 20230-0002, and in the “Reading Room” section of the Board's website, which is accessible via www.trade.gov/ftz. For further information, contact Camille Evans at Camille.Evans@trade.gov or (202) 482-2350.

Dated: March 16, 2010.
Andrew McGilvray,
Executive Secretary.

[FR Doc. 2010-6521 Filed 3-23-10; 8:45 am]

BILLING CODE 3510-DS-S